DEPARTMENT OF ENERGY

Federal Energy Regulatory Commission

Combined Notice of Filings

Take notice that the Commission has received the following Natural Gas Pipeline Rate and Refund Report filings:

Filings Instituting Proceedings

Docket Numbers: RP24-705-000.

Applicants: Equitrans, L.P.

Description: § 4(d) Rate Filing: EEP Nonconforming and Negotiated Rate Agreements to be effective 6/1/2024.

Filed Date: 4/29/24.

Accession Number: 20240429-5263.

Comment Date: 5 p.m. ET 5/13/24.

Docket Numbers: RP24-706-000.

Applicants: Discovery Gas Transmission LLC.

Description: Annual Imbalance Cash Out Report for 2023 of Discovery Gas Transmission LLC.

Filed Date: 4/29/24.

Accession Number: 20240429-5326.

Comment Date: 5 p.m. ET 5/13/24.

Docket Numbers: RP24-707-000.

Applicants: Florida Southeast Connection, LLC.

Description: Annual System Balancing Adjustment of Florida Southeast Connection, LLC.

Filed Date: 4/29/24.

Accession Number: 20240429-5328.

Comment Date: 5 p.m. ET 5/13/24.

Docket Numbers: RP24-708-000.

Applicants: Mountain Valley Pipeline, LLC.

Description: § 4(d) Rate Filing: Negotiated Rate Agreements—6/1/2024 to be effective 6/1/2024.

Filed Date: 4/30/24.

Accession Number: 20240430-5000.

Comment Date: 5 p.m. ET 5/13/24.

Docket Numbers: RP24-709-000.

Applicants: Fayetteville Express Pipeline LLC.

Description: Compliance filing: Fuel Filing on 4-30-2024 to be effective N/A.

Filed Date: 4/30/24.

Accession Number: 20240430-5004.

Comment Date: 5 p.m. ET 5/13/24.

Docket Numbers: RP24-710-000.

Applicants: ETC Tiger Pipeline, LLC.

Description: § 4(d) Rate Filing: Fuel Filing on 4-30-2024 to be effective 6/1/2024.

Filed Date: 4/30/24.

Accession Number: 20240430-5005.

Comment Date: 5 p.m. ET 5/13/24.

Docket Numbers: RP24-711-000.

Applicants: Equitrans, L.P.

Description: § 4(d) Rate Filing: Negotiated Rate Agreement—5/1/2024 to be effective 5/1/2024.

Filed Date: 4/30/24.

Accession Number: 20240430-5049.

Comment Date: 5 p.m. ET 5/13/24.

Docket Numbers: RP24-712-000.

Applicants: Algonquin Gas Transmission, LLC.

Description: § 4(d) Rate Filing: Negotiated Rates—Various Releases eff 5-1-24 to be effective 5/1/2024.

Filed Date: 4/30/24.

Accession Number: 20240430-5080.

Comment Date: 5 p.m. ET 5/13/24.

Docket Numbers: RP24-713-000.

Applicants: El Paso Natural Gas Company, L.L.C.

Description: § 4(d) Rate Filing: Negotiated Rate Agreement Filing (BP) to be effective 6/1/2024.

Filed Date: 4/30/24.

Accession Number: 20240430-5097.

Comment Date: 5 p.m. ET 5/13/24.

Docket Numbers: RP24-714-000.

Applicants: El Paso Natural Gas Company, L.L.C.

Description: § 4(d) Rate Filing: Negotiated Rate Agreement Update (Conoco May 2024) to be effective 5/1/2024.

Filed Date: 4/30/24.

Accession Number: 20240430-5105.

Comment Date: 5 p.m. ET 5/13/24

Docket Numbers: RP24-715-000.

Applicants: El Paso Natural Gas Company, L.L.C.

Description: § 4(d) Rate Filing: Negotiated Rate Agreements Update (Pioneer May 2024) to be effective 5/1/2024.

Filed Date: 4/30/24.

Accession Number: 20240430-5113.

Comment Date: 5 p.m. ET 5/13/24.

Docket Numbers: RP24-716-000.

Applicants: El Paso Natural Gas Company, L.L.C.

Description: § 4(d) Rate Filing: Negotiated Rate Agreements Update (Hartree 614700 615843 610670 May 2024) to be effective 5/1/2024.

Filed Date: 4/30/24.

Accession Number: 20240430-5143.

Comment Date: 5 p.m. ET 5/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 30, 2024.
Debbie-Anne A. Reese,
Acting Secretary.

[FR Doc. 2024-09835 Filed 5-6-24; 8:45 am]

BILLING CODE 6717-01-P